FEDERAL COMMUNICATIONS COMMISSION

47 CFR Part 73

[DA 01-2207; MM Docket No. 01-249; RM-10272]

Radio Broadcasting Services; Telluride and Norwood, CO

AGENCY: Federal Communications Commission.

ACTION: Proposed rule.

SUMMARY: This document requests comments on a petition for rule making filed on behalf of Rocky III Investments, Inc., licensee of Station KRYD(FM), Channel 285C1, Telluride, Colorado, requesting the reallotment of Channel 285C1 to Norwood, Colorado, as that community's first local aural transmission service, and modification of its license accordingly. The petitioner's modification proposal complies with the provisions of Section 1.420(i) of the Commission's Rules and therefore, we will not be accepting competing expressions of interest in the use of Channel 285C1 at Norwood. Coordinates used for this proposal are 38-00-05 NL and 107-57-53 WL.

DATES: Comments must be filed on or before November 13, 2001, and reply comments on or before November 27, 2001.

ADDRESSES: Secretary, Federal Communications Commission, Washington, DC 20554. In addition to filing comments with the FCC, interested parties should serve the petitioner's counsel, as follows: Barry D. Wood and Stuart W. Nolan, Jr., Esqs., Wood, Maines & Brown, Chartered, 1827 Jefferson Place, NW., Washington, DC 20036.

FOR FURTHER INFORMATION CONTACT: Nancy Joyner, Mass Media Bureau, (202) 418-2180.

SUPPLEMENTARY INFORMATION: This is a synopsis of the Commission's Notice of Proposed Rule Making, MM Docket No. 01-249, adopted September 12, 2001, and released September 21, 2001. The full text of this Commission decision is available for inspection and copying during normal business hours in the FCC's Reference Information Center (Room CY-A257), 445 12th Street, SW., Washington, DC. The complete text of this decision may also be purchased from the Commission's copy contractor, Qualtex International, Portals II, 445 12th Street, SW., Room CY-B402, Washington, DC 20554, telephone (202) 863-2893.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Colorado, is amended by adding Norwood, Channel 285C1, and removing Telluride, Channel 285C1.

Federal Communications Commission.
John A. Karousos,
Chief, Allocations Branch, Policy and Rules Division, Mass Media Bureau.

[FR Doc. 01-24862 Filed 10-3-01; 8:45 am]

BILLING CODE 6712-01-P